DEPARTMENT OF THE INTERIOR

Fish and Wildlife Service

[FWS-R3-ES-2016-N077; FXES11130300000-167-FF03E00000]

Endangered and Threatened Wildlife and Plants; Permit Applications; Correction

AGENCY: Fish and Wildlife Service, Interior.

ACTION: Notice of availability of permit applications; request for comments; correction.

SUMMARY: We, the U.S. Fish and Wildlife Service, correct errors in a recently published notice that announced the availability of permit applications for public comment. The notice did not accurately describe all of the applications. However, if you requested documents for review, you need not request them again, because the errors were not in the application materials themselves, but only in our previous Federal Register notice. Therefore, if you submitted comments, you need not resubmit them.

DATES: To ensure consideration, written comments must be received on or before May 13, 2016.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

FOR FURTHER INFORMATION CONTACT: Carlita Payne, (612) 713-5343.

SUPPLEMENTARY INFORMATION:

Background

On April 13, 2016 (81 FR 21892), we published a notice inviting public comment on permit applications for certain activities with endangered species authorized by section 10(a)(1)(A) of the Act (16 U.S.C. 1531 et seq.) and our regulations governing the taking of endangered species in the Code of Federal Regulations (CFR) at 50 CFR part 17. The notice did not accurately describe all of the applications. The errors were not in the application materials themselves, but only in our previous Federal Register notice. If you requested documents for review, you need not request them again. If you submitted comments, you need not resubmit them.

Corrections

We make the following corrections to the following permit descriptions in the Permit Applications section of the original April 13, 2016, notice:

Permit TE206781 (applicant: Ecological Specialists, Inc., O'Fallon, MO): On page 21892, column 3, add Texas to the list of States.

Permit TE38821A (applicant: Stantec Consulting Services, Louisville, KY): On page 21893, add “Elktoe, Cumberland . . . . Alasmidonta atropurpurea” to the list of species in the second table, and add Colorado and Wyoming to the list of States in column 3.

Permit TE06873B (applicant Andrew Carson, Cincinnati, OH): On page 21894, column 3, remove Texas from the list of States, and add Louisiana and Mississippi to the list of States.

Permit TE85232B (applicant: Zachary Kaiser, Ethridge, MT; page 21895, column 1), Permit TE 85227B (applicant: Jacquelyn Dearborn, Columbia, MO; page 21895, column 1), and Permit TE85228B (applicant: Eric Schroder, Fairmont, WV; page 21985, column 2): In each of these three entries, we remove the word “amendment”. These are applications for first-time permits.

Permit TE02373A (applicant: Environmental Solutions and Innovations, Inc., Cincinnati, OH): On page 21897, column 1, add 27 States to the list of areas covered by the proposed permit.

Permit TE08603A (applicant: Michelle Malcosky, Hudson, OH): On page 21897, column 2, add Ohio to the list of States.

The corrected descriptions of the permit applications read as follows:

Permit Application Number: TE206781

Applicant: Ecological Specialists, Inc., O'Fallon, MO

The applicant requests a permit renewal, with amendment to take (capture and release, capture and relocate) federally listed mussels throughout the States of Arkansas, Iowa, Illinois, Indiana, Kentucky, Maryland, Michigan, Minnesota, Missouri, Nebraska, New York, Pennsylvania, Oklahoma, Ohio, South Dakota, Texas, Tennessee, Virginia, Wisconsin, and West Virginia. The following mussel species are included:

Pocketbook, Ouachita rock, Arkansia wheeleri

Bean, rayed, Villosa fabalis

Catspaw, white (pearlymussel), Epioblasma obliquata perobliqua

Higgins eye (pearlymussel), Lampsilis higginsii

Mapleleaf, winged, Quadrula fragosa

Mussel, scaleshell, Leptodea leptodon

Mussel, sheepnose, Plethobasus cyphyus

Mussel, snuffbox, Epioblasma triquetra

Pearlymussel, Curtis, Epioblasma florentina curtisii

Pearlymussel, purple cat's paw, Epioblasma obliquata obliquata

Spectaclecase (mussel), Cumberlandia monodonta

Acornshell, southern, Epioblasma othcaloogensis

Bean, Cumberland (pearlymussel), Villosa trabalis

Blossom, green (pearlymussel), Epioblasma torulosa gubernaculum

Blossom, tubercled (pearlymussel), Epioblasma torulosa torulosa

Blossom, turgid (pearlymussel), Epioblasma turgidula

Blossom, yellow (pearlymussel), Epioblasma florentina florentina

Combshell, Cumberlandian, Epioblasma brevidens

Combshell, upland, Epioblasma metastriata

Elktoe, Appalachian, Alasmidonta raveneliana

Elktoe, Cumberland, Alasmidonta atropurpurea

Fanshell, Cyprogenia stegaria

Fatmucket, Arkansas, Lampsilis powellii

Kidneyshell, triangular, Ptychobranchus greenii

Lampmussel, Alabama, Lampsilis virescens

Lilliput, pale (pearlymussel), Toxolasma cylindrellus

Moccasinshell, Coosa, Medionidus parvulus

Monkeyface, Cumberland (pearlymussel), Quadrula intermedia

Mucket, pink (pearlymussel), Lampsilis abrupta

Mussel, oyster, Epioblasma capsaeformis

Pearlymussel, birdwing, Lemiox rimosus

Pearlymussel, cracking, Hemistena lata

Pearlymussel, dromedary, Dromus dromas

Pearlymussel, littlewing, Pegias fabula

Pigtoe, Cumberland, Pleurobema gibberum

Pigtoe, finerayed, Fusconaia cuneolus

Pigtoe, Georgia, Pleurobema hanleyianum

Pigtoe, rough, Pleurobema plenum

Pigtoe, shiny, Fusconaia cor

Pigtoe, southern, Pleurobema georgianum

Pimpleback, orangefoot (pearlymussel), Plethobasus cooperianus

Pocketbook, fat, Potamilus capax

Pocketbook, fine-lined, Lampsilis altilis

Pocketbook, speckled, Lampsilis streckeri

Riffleshell, tan, Epioblasma florentina walkeri (=E. walkeri)

Ring pink (mussel), Obovaria retusa

Wartyback, white (pearlymussel), Plethobasus cicatricosus

Bean, purple, Villosa perpurpurea

Clubshell, Pleurobema clava

Monkeyface, Appalachian (pearlymussel), Quadrula sparsa

Rabbitsfoot, rough, Quadrula cylindrica strigillata

Riffleshell, northern, Epioblasma torulosa rangiana

Spinymussel, James, Pleurobema collina

Wedgemussel, dwarf, Alasmidonta heterodon

Kidneyshell, fluted, Ptychobranchus subtentum

Mucket, Neosho, Lampsilis rafinesqueana

Pearlymussel, slabside, Pleuronaia dolabelloides

Rabbitsfoot, Quadrula cylindrica cylindrica

Proposed activities are for the recovery and enhancement of survival of the species in the wild.

Permit Application Number: TE38821A

Applicant: Stantec Consulting Services, Louisville, KY

The applicant requests a permit renewal, with amendment to take (capture and release) Indiana bat (Myotis sodalis), gray bat (Myotis grisescens), northern long-eared bat (Myotis septentrionalis), Ozark big-eared bat (Corynorhinus townsendii ingens), Virginia big-eared bat (Corynorhinus townsendii virginianus), copperbelly watersnake (Nerodia erythrogaster neglecta), and federally listed mussels and fish in the States of Alabama, Arkansas, Colorado, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming. The following mussel and fish species are included:

Bean, rayed, Villosa fabalis

Higgins eye (pearlymussel), Lampsilis higginsii

Mussel, sheepnose, Plethobasus cyphyus

Mussel, snuffbox, Epioblasma triquetra

Purple cat's paw pearlymussel, Epioblasma obliquata obliquata

Spectaclecase (mussel), Cumberlandia monodonta

Bean, Cumberland (pearlymussel), Villosa trabalis

Elktoe, Cumberland, Alasmidonta atropurpurea

Combshell, Cumberlandian, Epioblasma brevidens

Fanshell, Cyprogenia stegaria

Mucket, pink (pearlymussel), Lampsilis abrupta

Mussel, oyster, Epioblasma capsaeformis

Pearlymussel, birdwing, Lemiox rimosus

Pearlymussel, cracking, Hemistena lata

Pearlymussel, dromedary, Dromus dromas

Pearlymussel, littlewing, Pegias fabula

Pigtoe, finerayed, Fusconaia cuneolus

Pigtoe, rough, Pleurobema plenum

Pigtoe, shiny, Fusconaia cor

Pimpleback, orangefoot (pearlymussel), Plethobasus cooperianus

Pocketbook, fat, Potamilus capax

Riffleshell, tan, Epioblasma florentina walkeri (=E. walkeri)

Ring pink (mussel), Obovaria retusa

Wartyback, white (pearlymussel), Plethobasus cicatricosus

Bean, purple, Villosa perpurpurea

Clubshell, Pleurobema clava

Rabbitsfoot, rough, Quadrula cylindrica strigillata

Riffleshell, northern, Epioblasma torulosa rangiana

Kidneyshell, fluted, Ptychobranchus subtentum

Pearlymussel, slabside, Pleuronaia dolabelloides

Rabbitsfoot, Quadrula cylindrica cylindrica

Dace, blackside, Phoxinus cumberlandensis

Darter, duskytail, Etheostoma percnurum

Darter, Kentucky arrow, Etheostoma spilotum

Darter, relict, Etheostoma chienense

Shiner, palezone, Notropis albizonatus

Sturgeon, pallid, Scaphirhynchus albus

Proposed activities are for the recovery and enhancement of survival of the species in the wild.

Permit Application Number: TE06873B

Applicant: Andrew Carson, Cincinnati, OH

The applicant requests a permit renewal, with amendment to take (capture and release) Indiana bat (Myotis sodalis), gray bat (Myotis griescens), northern long-eared bat (Myotis septentrionalis), and Ozark big-eared bat (Corynorhinus townsendii ingens) in the District of Columbia and in the States of Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE85232B

Applicant: Zachary Kaiser, Ethridge, MT

The applicant requests a permit to take (capture and release, and radio-tag) Indiana bat (Myotis sodalis), gray bat (Myotis griescens), and northern long-eared bat (Myotis septentrionalis) in the States of Alabama, Arkansas, Connecticut, Florida, Georgia, Illinois, Indiana, Iowa, Kansas, Kentucky, Maine, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, Wisconsin, and Wyoming. Proposed activities are for the recovery and enhancement of survival of the species in the wild.

Permit Application Number: TE85227B

Applicant: Jacquelyn Dearborn, Columbia, MO

The applicant requests a permit to take (capture and release, and radio-tag) Indiana bat (Myotis sodalis), gray bat (Myotis griescens), northern long-eared bat (Myotis septentrionalis), and Ozark big-eared bat (Corynorhinus townsendii ingens) in the States of Illinois and Missouri. Proposed activities are for the recovery and enhancement of survival of the species in the wild.

Permit Application Number: TE85228B

Applicant: Eric Schroder, Fairmont, WV

The applicant requests a permit to take (capture and release, trap, and radio-tag) Indiana bat (Myotis sodalis), gray bat (Myotis griescens), and northern long-eared bat (Myotis septentrionalis) in the States of Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, Tennessee, Vermont, Virginia, West Virginia, Wisconsin, and Wyoming. Proposed activities are for the recovery and enhancement of survival of the species in the wild.

Permit Application Number: TE02373A

Applicant: Environmental Solutions and Innovations, Inc., Cincinnati, OH

The applicant requests a permit renewal, with amendment to take (capture and release) American burying beetle (Nicrophorus americanus); take (capture and release, handle, and radio-tag) Indiana bat (Myotis sodalis), gray bat (Myotis griescens), northern long-eared bat (Myotis septentrionalis), Virginia big-eared bat (Corynorhinus townsendii virginianus), and Ozark big-eared bat (Corynorhinus townsendii ingens); take (survey and identify) running buffalo clover (Trifolium stoloniferum) and northeastern bulrush (Scirpus ancistrochaetus); and take (capture and release) 56 federally listed mussel species and 5 federally listed fish species in the territories of Puerto Rico and the U.S. Virgin Islands, and in the States of Alabama, Arkansas, Connecticut, Delaware, Florida, Georgia, Illinois, Indiana, Iowa, Kansas, Kentucky, Louisiana, Maryland, Massachusetts, Michigan, Minnesota, Mississippi, Missouri, Nebraska, New Hampshire, New Jersey, New York, North Carolina, Ohio, Oklahoma, Pennsylvania, Rhode Island, South Carolina, South Dakota, Tennessee, Texas, Vermont, Virginia, West Virginia, and Wisconsin. Proposed activities are for the recovery and enhancement of survival of the species in the wild.

Permit Application Number: TE08603A

Applicant: Michelle Malcosky, Hudson, OH

The applicant requests a permit renewal, with amendment to take (capture and release, handle, band, and radio-tag) Indiana bat (Myotis sodalis) and northern long-eared bat (Myotis septentrionalis) in the States of Illinois, Indiana, Kentucky, Michigan, Missouri, Ohio, Pennsylvania, and West Virginia. Proposed activities are for the recovery and enhancement of survival of the species in the wild.

Dated: April 29, 2016.
Lynn M. Lewis,
Assistant Regional Director, Ecological Services, Midwest Region.

[FR Doc. 2016-10528 Filed 5-4-16; 8:45 am]

BILLING CODE 4333-15-P